DEPARTMENT OF HEALTH AND HUMAN SERVICES

National Institutes of Health

Government-Owned Inventions; Availability for Licensing

AGENCY: National Institutes of Health, Public Health Service, DHHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

UltraRad—A Method and Probe To Enhance Radiation Delivery

C. Norman Coleman (NCI), Robert Miller (NCI), Brian Justus (NRL), and Alan Huston (NRL)

U.S. Provisional Application No. 60/453,934 filed 11 Mar 2003 (DHHS Reference No. E-049-2003/0-US-01)

Licensing Contact: Michael Shmilovich; 301/435-5019; shmilovm@mail.nih.gov.

Available for licensing and commercialization in a novel technique of locating a tumor in 3-dimensional space to provide a precisely targeted external radiation beam directed to the tumor. A catheter like probe equipped with an ultrasound transducer for precise local imaging of the tumor, and proprietary radiation dosimeters for measuring the amount of radiation delivered by the external beam. The probe would also be equipped with a flow-through drug delivery system that could provide radiation opaque material to protect the area surrounding the tumor from radiation damage. It is envisioned that controlling the external radiation beam will be in response to radiation detected by the probe. Of interest is the utility of the probe in phantom models and prostate cancer. The method and apparatus utilizes a radiation-detecting array of radiation sensitive dosimeters for the real-time remote measurement of radiotherapy at the radiation-detecting array. The radiation-detecting array is positioned within the patient's body along the treatment path before or after the identified radiotherapy target or the device may be positioned beyond the patient to measure transit dose. A radiation source for emitting radiation for radiotherapy along a treatment path through the patient to the identified radiotherapy target is utilized. The method includes generating a predicted dose pattern of radiation at the placed radiation-detecting array. The predicted dose pattern assumes an on-target radiation source emitting the radiotherapy beam along the treatment path through the patient to the identified radiotherapy target. Gating of the radiation source can occur responsive to the comparing of the predicted dose pattern of radiation to the real-time dose pattern at the radiation-detecting array. Radiation intensity can vary between low levels to a treatment level responsive to coincidence of the predicted dose pattern of radiation to the real-time dose pattern at the radiation-detecting array.

Computer-Aided Classification of Anomalies in Anatomical Structures

Ronald Summers, Marek Franaszek, Gheorge Iordanescu (CC)

U.S. Patent Application No. 10/671,749 filed 26 Sep 2003 (DHHS Reference No. E-077-2002/0-US-03)

Licensing Contact: Michael Shmilovich; 301/435-5019; shmilovm@mail.nih.gov.

Available for licensing is a software enabled method for improving the sensitivity and specificity of computer aided detection (CAD) for computed tomography (CT) or magnetic resonance imaging (MRI) colonography. Colonography is an imaging test that identifies polyps and cancers of the colon and may be useful for reducing the incidence, morbidity and mortality of colon cancer in human beings. The invention comprises three main areas of characterization used to substantially reduce the number of CAD false positives: (1) analysis of the neck of a colon polyp can help distinguish true positive from false positive tumor detections (2) characterization of the colon wall thickness in the proximity of the polyp has been found to be determinative in distinguishing polyps, and (3) templates that mimic the shape of different types of polyps (for example, those on folds, sessile polyps, pedunculated polyps etc.) can improve sensitivity and increase specificity.

Dated: February 5, 2004.
Steven M. Ferguson,
Director, Division of Technology Development and Transfer, Office of Technology Transfer, National Institutes of Health.

[FR Doc. 04-3165 Filed 2-12-04; 8:45 am]

BILLING CODE 4140-01-P